DEPARTMENT OF LABOR

Occupational Safety and Health Administration

Maritime Advisory Committee for Occupational Safety and Health (MACOSH)

AGENCY: Occupational Safety and Health Administration (OSHA), Labor.

ACTION: MACOSH membership, notice of.

SUMMARY: In accordance with the provisions of the Federal Advisory Committee Act (FACA), as amended (5 U.S.C., App. 2), and after consultation with the General Services Administration, the Secretary of Labor announced on September 22, 2008, her intention to re-charter the Maritime Advisory Committee for Occupational Safety and Health (MACOSH) as being in the public interest (73 FR 54624). She signed the MACOSH charter on September 23, 2008, which, pursuant to FACA, will expire after two years on September 23, 2010. On November 12, 2008, the Secretary of Labor selected and approved 15 members to serve on the Committee. The Committee is diverse and balanced, both in terms of segments of the maritime industry represented (e.g., shipyard, longshoring and marine terminal, and fishing industries), and in the views or interests represented by the members. MACOSH will contribute to OSHA's performance of the duties imposed by the Occupational Safety and Health Act of 1970 (OSH Act) (29 U.S.C. 651 et seq.).

FOR FURTHER INFORMATION CONTACT: For general information about MACOSH, contact: Joseph V. Daddura, Director, Office of Maritime, OSHA, U.S. Department of Labor, Room N-3609, 200 Constitution Avenue, NW., Washington, DC 20210; phone: (202) 693-2086; Fax: (202) 693-1663.

SUPPLEMENTARY INFORMATION:

I. Background

The maritime industry has historically experienced a high incidence of work-related fatalities, injuries, and illnesses. OSHA has targeted this industry for special attention due to that experience. This targeting has included development of guidance or outreach materials specific to the industry, rulemaking to update requirements, and other activities. MACOSH will advise OSHA on matters relevant to the safety and health of employees in the maritime industry. The Committee's advice will result in more effective enforcement, training and outreach programs, and streamlined regulatory efforts. The Committee will function solely as an advisory body, in compliance with the provisions of FACA and OSHA's regulations covering advisory committees (29 CFR part 1912).

II. Appointment of Committee Members

OSHA received nominations of highly qualified individuals in response to the Agency's request for nominations. The Secretary has selected to serve on the Committee the following individuals who have broad experience relevant to the issues to be examined by the Committee. The MACOSH members are:

Stewart Adams, U.S. Department of the Navy, Naval Sea Systems Command (NAVSEA);

Alan Davis, American Seafoods Company;

Michael J. Flynn, International Association of Machinists and Aerospace Workers;

Alton H. Glass, Sr., United Steelworkers;

Lesley E. Johnson, International Brotherhood of Electrical Workers;

Kenneth W. Killough, South Carolina Stevedores Association;

Charles R. Lemon, Washington State Department of Labor and Industries; Jennifer M. Lincoln, National Institute of Occupational Safety and Health (NIOSH);

George S. Lynch, Jr., International Longshoremen's Association;

Marc MacDonald, Pacific Maritime Association;

Tim Podue, International Longshore and Warehouse Union;

Donald Raffo, General Dynamics;

Barry E. Richardson, MTS Technologies, Inc.;

Kenneth A. Smith, U.S. Coast Guard, Vessel and Facility Operating Standards; and

James R. Thornton, Northrop Grumman, Newport News Shipyard.

III. Authority

This notice was prepared under the direction of Thomas M. Stohler, Acting Assistant Secretary of Labor for Occupational Safety and Health, U.S. Department of Labor, 200 Constitution Avenue, NW., Washington, DC 20210, pursuant to Sections 6(b)(1) and 7(b) of the OSH Act (29 U.S.C. 655, 656), 29 CFR part 1912, and FACA (5 U.S.C., App. 2).

Signed at Washington, DC, this 12 day of December, 2008.
Thomas M. Stohler,
Acting Assistant Secretary of Labor for Occupational Safety and Health.

[FR Doc. E8-30065 Filed 12-17-08; 8:45 am]

BILLING CODE 4510-26-P